DEPARTMENT OF HEALTH AND HUMAN SERVICES

National Institutes of Health

National Institute of Mental Health; Notice of Meeting

Pursuant to section 10(a) of the Federal Advisory Committee Act, as amended (5 U.S.C. App.), notice is hereby given of an Interagency Autism Coordinating Committee (IACC) meeting.

The purpose of the IACC meeting is to continue discussing recommendations for the annual update of the IACC Strategic Plan for Autism Spectrum Disorders Research. The IACC meeting will be conducted and available to the public via a telephone conference call and a webinar.

Name of Committee: Interagency Autism Coordinating Committee (IACC)

Type of meeting: Open meeting via conference call and webinar only; no in-person meeting.

Date: December 11, 2009.

Time: 9 a.m. to 1 p.m.* Eastern Time—* Approximate end time.

Meeting Registration: No registration is required to listen to the conference call or view the webinar.

Agenda: To continue discussion on recommendations for the annual update of the IACC Strategic Plan for Autism Spectrum Disorder Research.

Webinar: https://www2.gotomeeting.com/register/906979171.

Conference Call Access: Dial: 888-455-2920. Access code: 9984461.

Contact Person: Ms. Lina Perez, Office of Autism Research Coordination, Office of the Director, National Institute of Mental Health, NIH, 6001 Executive Boulevard, NSC, Room 8200, Bethesda, MD 20892-9669, Phone: (301) 443-6040, E-mail: IACCPublicInquiries@mail.nih.gov.

Any interested person may submit written comments to the IACC prior to the meeting by sending the statement to the Contact Person listed on this notice by 5 p.m. ET on December 8, 2009. The statement should include the name, address, telephone number and when applicable, the business or professional affiliation of the interested person. All written statements received by the deadline will be provided to the IACC for their consideration.

The meeting will be open to the public through a conference call phone number and a webinar conducted using a web presentation tool on the Internet. Individuals who participate using this service and who need special assistance, such as captioning of the conference call or other reasonable accommodations, should submit a request to the contact person listed above at least seven days prior to the meeting. If you experience any technical problems with the Web presentation tool or conference call, please e-mail IACCTechSupport@acclaroresearch.com.

Members of the public who participate using the conference call phone number will be able to listen to the meeting but will not be heard. This phone call may end prior to or later than 1 p.m., depending on the needs of the Committee.

To access the webinar on the Internet the following computer capabilities are required: (A) Internet Explorer 5.0 or later, Netscape Navigator 6.0 or later or Mozilla Firefox 1.0 or later; (B) Windows® 2000, XP Home, XP Pro, 2003 Server or Vista; (C) Stable 56k, cable modem, ISDN, DSL or better Internet connection; (D) Minimum of Pentium 400 with 256 MB of RAM (Recommended); (E) Java Virtual Machine enabled (Recommended)

This meeting is being published less than 15 days prior to the meeting due to the timing limitations for completing the updating of the Annual Strategic Plan for Autism Spectrum Disorder Research.

Information about the IACC is available on the Web site: http://www.iacc.hhs.gov.

Meeting schedule subject to change.

Dated: November 19, 2009.
Jennifer Spaeth,
Director, Office of Federal Advisory Committee Policy.

[FR Doc. E9-28284 Filed 11-24-09; 8:45 am]

BILLING CODE 4140-01-P